DEPARTMENT OF THE INTERIOR

Fish and Wildlife Service

[FWS-R1-ES-2024-0159; ES11140100000-245-FF01E0000]

Receipt of Enhancement of Survival Permit Application and Proposed Conservation Benefit Agreement for Introduction of the Endangered Orangeblack Hawaiian Damselfly to a Conservation Area on the Island of Lāna'i; Categorical Exclusion

AGENCY: Fish and Wildlife Service, Interior.

ACTION: Notice of availability; request for comments.

SUMMARY: We, the U.S. Fish and Wildlife Service (Service), have received an application from Pūlama Lāna'i for an enhancement of survival permit (permit) pursuant to the Endangered Species Act. If approved, the permit would authorize take of the orangeblack Hawaiian damselfly, ae'o (Hawaiian stilt), 'alae ke'oke'o (Hawaiian coot) and assimulans yellow-faced bee (the “covered species”). The application includes a draft conservation benefit agreement, describing the actions the applicant will take to create new habitat for the covered species, facilitate reintroduction of the orangeblack Hawaiian damselfly to Lāna'i, and achieve a net conservation benefit for each of the covered species. We have also prepared a draft environmental action statement for our preliminary determination that the permit decision may be eligible for categorical exclusion under the National Environmental Policy Act. We invite the public and local, State, Tribal, Native Hawaiian, and Federal agencies to comment on these documents.

DATES: Submit written comments no later than November 29, 2024.

ADDRESSES:

Obtaining documents: The application, application supporting materials, and any comments and other materials that we receive will be available for public inspection at https://www.regulations.gov in Docket No. FWS-R1-ES-2024-0159.

Submitting comments: To submit written comments, please use one of the following methods:

• Online: https://www.regulations.gov. Search for and submit comments on Docket No. FWS-R1-ES-2024-0159.

• U.S. Mail: Attn: Docket No. FWS-R1-ES-2024-0159; U.S. Fish and Wildlife Service Headquarters, MS: PRB/3W; 5275 Leesburg Pike, Falls Church, VA 22041-3803.

For more information, see Public Availability of Comments under SUPPLEMENTARY INFORMATION.

FOR FURTHER INFORMATION CONTACT: Chelsie Javar-Salas, via telephone at 808-210-6131, or via email at Chelsie Javar-Salas@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), have received an enhancement of survival permit (permit) application pursuant to section 10(a)(1)(A) of the Endangered Species Act of 1973, as amended (ESA; 16 U.S.C. 1531 et seq.). The applicant is Lāna'i Resorts, LLC, dba Pūlama Lāna'i on the island of Lāna'i, Hawai'i. If issued, the permit would authorize take of the orangeblack Hawaiian damselfly (Megalagrion xanthomelas), ae'o (Hawaiian stilt, Himantopus mexicanus knudseni), 'alae ke'oke'o (Hawaiian coot, Fulica americana alai) and assimulans yellow-faced bee (Hylaeus assimulans), all federally listed as endangered. The take would be caused by implementation of conservation measures to create and maintain new habitat and facilitate reestablishment of a self-sustaining orangeblack Hawaiian damselfly population on Lāna'i. The reestablishment of the orangeblack Hawaiian damselfly on Lāna'i would contribute to the species' recovery by increasing the number of extant populations, their distribution, and resiliency of the species to stochastic events. Conservation measures include constructing a water source, creating orangeblack Hawaiian damselfly habitat, and implementing stewardship of a 3-acre (1.2-hectare) area on degraded land. The created habitat would also benefit the ae'o, 'alae ke'oke'o, and assimulans yellow-faced bee. The conservation measures described in the conservation benefit agreement (CBA) are intended to provide a net conservation benefit to each species. We have also prepared a draft environmental action statement (EAS) for our preliminary determination that the permit decision is eligible for categorical exclusion under the National Environmental Policy Act (NEPA; 42 U.S.C. 4321 et seq.). We provide this notice to open a public comment period and invite comments from all interested parties regarding the documents referenced above.

Background

On April 12, 2024, the Service published final revisions to the regulations for ESA section 10(a)(1)(A) and (B) (89 FR 26070), which went into effect on May 13, 2024. Among other changes and clarifications, the revised regulations simplify the requirements for enhancement of survival permits by combining two previous agreement types, safe harbor agreements and candidate conservation agreements with assurances, into one agreement type, known as a conservation benefit agreement (CBA). Under a CBA, participating property owners undertake management activities on their property to enhance, restore, or maintain habitat conditions to an extent that is likely to result in a net conservation benefit for the covered species. A CBA and the associated enhancement of survival permit issued to participating property owners encourage private and other non-Federal property owners to implement conservation actions for federally listed species. Participating property owners are assured that they will not be subject to increased property use restrictions as a result of their efforts to attract listed species to their property, or to increase the numbers or distribution of listed species already on their property.

A CBA and an associated permit allow the property owner to alter or modify the enrolled property back to agreed-upon pre-permit baseline conditions at the end of the term of the permit, even if such alteration or modification results in take of a listed species. The baseline conditions must reflect the known biological and habitat characteristics that support existing levels of use of the enrolled property by the species covered in the CBA. The authorization to take listed species is contingent on the property owner complying with obligations in the CBA and the terms and conditions of the permit. The CBA must provide a net conservation benefit, which is defined at Code of Federal Regulations (CFR) at 50 CFR 17.3. Enrolled property owners may make lawful use of the enrolled property during the term of the permit and may take the listed species named on the permit in accordance with the terms and conditions of the permit.

Permit application requirements and issuance criteria for enhancement of survival permits for CBAs that involve species listed as threatened are found at 50 CFR 17.32(c); permit application requirements and issuance criteria for enhancement of survival permits for CBAs that involve species listed as endangered are found at 50 CFR 17.22(c).

Proposed Project

Lāna'i Resorts, LLC, dba Pūlama Lāna'i has submitted an application for an ESA section 10(a)(l)(A) permit. The permit application includes a CBA that would be implemented on enrolled property if a permit is issued. The primary conservation measures provided in the CBA include:

• Creating new habitat for the covered species where none currently exists.

• Protecting the new breeding habitat for orangeblack Hawaiian damselflies by building and maintaining ungulate exclusion fencing.

• Managing the new aquatic habitat for orangeblack Hawaiian damselfly to be free of predatory fish.

• Reintroducing a new population of orangeblack Hawaiian damselflies.

• Establishing predator-controlled habitat within the fenced area containing surface water for Hawaiian coot and Hawaiian stilt.

• Establishing forage, cover, and potential nesting resources for assimulans yellow-faced bees.

Net Conservation Benefits from the conservation measures include:

• Increasing the range of each covered species, thereby helping to protect against catastrophic loss of the species.

• Reintroducing a new population of orangeblack Hawaiian damselflies.

• Preventing ecological damage to the created habitat from ungulates and invasive plant species.

Additional benefits include:

• Increasing collaborative recovery efforts between the Service, the Hawaii Department of Land and Natural Resources, and Pūlama Lāna'i.

• Increasing opportunity for environmental education and conservation public outreach.

Request for Public Comments

We invite public review and comment on the permit application package, including the CBA and draft EAS (see ADDRESSES). You may submit your comments and materials by one of the methods listed in the ADDRESSES section. We request data, comments, new information, or suggestions from the public, other concerned governmental agencies, the scientific community, Tribes, industry, or any other interested party on our proposed Federal action, including on the adequacy of the CBA, pursuant to the requirements for permits at 50 CFR parts 13 and 17.

Public Availability of Comments

All comments and materials we receive become part of the public record associated with this action. Before including your address, phone number, email address or other personal identifying information in your comments, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety.

Next Steps

After the public comment period ends (see DATES), we will evaluate the permit application, associated documents, and any comments received to determine whether the permit application meets the requirements of section 10(a)(1)(A) of the ESA. We will also evaluate whether issuance of the requested permit would comply with section 7 of the ESA by conducting an intra-Service consultation under section 7(a)(2) of the ESA on the proposed action. The final NEPA and permit determinations will not be completed until after the end of the 30-day comment period and will fully consider all comments received during the comment period. If we determine that all requirements are met, we will issue an Enhancement of Survival Permit under section 10(a)(1)(A) of the ESA and associated implementing regulations found at 50 CFR 17.22(c).

Authority

We provide this notice in accordance with the requirements of section 10(c) of the Endangered Species Act of 1973, as amended (16 U.S.C. 1531 et seq.), and its implementing regulations (50 CFR 17.22 and 17.32), and the National Environmental Policy Act (42 U.S.C. 4321 et seq.) and its implementing regulations (40 CFR 1501.9).

Bridget Fahey,
Deputy Regional Director, Pacific Region, U.S. Fish and Wildlife Service.

[FR Doc. 2024-25179 Filed 10-29-24; 8:45 am]

BILLING CODE 4333-15-P